DEPARTMENT OF THE INTERIOR

Bureau of Land Management

[ID-933-1430-ET; GPO-03-0005; IDI-04319]

Public Land Order No. 7578; Partial Revocation of Public Land Order No. 1479; ID

AGENCY: Bureau of Land Management, Interior.

ACTION: Public Land Order.

SUMMARY: This order revokes a public land order insofar as it affects 0.23 acre of National Forest System land withdrawn for the Forest Service's Priest Lake Recreation Area. This action will open the land to such forms of disposition as may by law be made of National Forest System land.

EFFECTIVE DATE: September 15, 2003.

FOR FURTHER INFORMATION CONTACT: Jackie Simmons, BLM Idaho State Office, 1387 S. Vinnell Way, Boise, Idaho 83709, 208-373-3867.

SUPPLEMENTARY INFORMATION: The land is no longer needed for the purpose for which it was withdrawn, and the revocation is needed to make the land available for disposal under the Small Tract Act. The land has been and will remain open to mineral leasing.

Order

By virtue of the authority vested in the Secretary of the Interior by section 204 of the Federal Land Policy and Management Act of 1976, 43 U.S.C. 1714 (2000), it is ordered as follows:

1. Public Land Order No. 1479, which withdrew National Forest System land for Forest Service recreation areas, administrative and public service sites, is hereby revoked insofar as it affects the following described land:

Boise Meridian

Kaniksu National Forest

Priest Lake Recreation Area

T. 61 N., R. 4 W.,

sec. 8, lot 2, a parcel of land identified as S.T.A. ID-229.

The area described contains 0.23 acre in Bonner County.

2. At 9 a.m on September 15, 2003, the land shall be opened to such forms of disposition as may by law be made of National Forest System land, subject to valid existing rights, the provisions of existing withdrawals, other segregations of record, and the requirements of applicable law.

Dated: July 25, 2003.
Rebecca W. Watson,
Assistant Secretary—Land and Minerals Management.

[FR Doc. 03-20744 Filed 8-13-03; 8:45 am]

BILLING CODE 4310-GG-P